DEPARTMENT OF LABOR

Office of Labor-Management Standards

Interpretation of the “Advice” Exemption in Section 203(c) of the Labor-Management Reporting and Disclosure Act

AGENCY: Office of Labor-Management Standards, Employment Standards Administration, Labor.

ACTION: Notice; further deferral of enforcement action.

SUMMARY: Consistent with the memorandum of January 20, 2001, from the Assistant to the President and Chief of Staff, entitled “Regulatory Review Plan,” published in the Federal Register on January 24, 2001 (66 FR 7702), this action temporarily delays for 60 days the date on which the Office of Labor-Management Standards will begin to enforce the interpretation set forth in a notice published in the Federal Register on January 11, 2001 (66 FR 2782). The temporary 60-day delay is necessary to give Department officials the opportunity for further review and consideration of this matter.

DATES: The interpretation of the “advice” exemption in Section 203(c) of the Labor-Management Reporting and Disclosure Act of 1959, as amended, published in the Federal Register on January 11, 2001 was to have commenced on February 10, 2001. It shall instead commence on April 11, 2001.

FOR FURTHER INFORMATION CONTACT: Kay H. Oshel, Chief, Division of Interpretations and Standards, Office of Labor-Management Standards, Employment Standards Administration, U.S. Department of Labor, 200 Constitution Avenue, NW., room N-5605, Washington, DC, (202) 693-1233 (this is not a toll free number).

Signed at Washington, DC, this 6th day of February, 2001.
Joe N. Kennedy,
Acting Assistant Secretary of Labor for Employment Standards.

[FR Doc. 01-3476 Filed 2-8-01; 8:45 am]

BILLING CODE 4510-86-P